GENERAL SERVICES ADMINISTRATION

[Notice-WSCC-2019-01; Docket 2019-0004; Sequence No. 1]

Women's Suffrage Centennial Commission; Notification of Public Meeting

AGENCY: Women's Suffrage Centennial Commission, General Services Administration (GSA).

ACTION: Meeting notice.

SUMMARY: Notice of this meeting is being provided according to the requirements of the Federal Advisory Committee Act. This notice provides the schedule and agenda for the February meeting of the Women's Suffrage Centennial Commission (Commission). The meeting is open to the public.

DATES: Meeting date: The meeting will be held on Wednesday, February 27, 2019, beginning at 9:00 a.m. (Eastern Standard Time), and ending no later than 5:00 p.m., EST.

ADDRESSES: The meeting will be held at the National Archives, 700 Pennsylvania Avenue NW, Washington, DC 20408. In the event that the partial lapse in appropriations shutdown is still in effect, the meeting will still be held on the scheduled date, February 27, 2019, but the contingency location will be: Library of Congress, Madison Building, 101 Independence Ave. SE, Washington, DC 20540, Sixth Floor, Dining Room A.

FOR FURTHER INFORMATION CONTACT: Rebecca Kleefisch, Executive Director, Women's Suffrage Centennial Commission, P.O. Box 2020, Washington, DC 20013; email: rebecca@womensvote100.org; telephone: 262-349-2990.

SUPPLEMENTARY INFORMATION:

Background

Congress passed legislation to create the Women's Suffrage Centennial Commission Act, a bill, “to ensure a suitable observance of the centennial of the passage and ratification of the 19th Amendment of the Constitution of the United States providing for women's suffrage.”

The duties of the Commission, as written in the law, include: (1) To encourage, plan, develop, and execute programs, projects, and activities to commemorate the centennial of the passage and ratification of the 19th Amendment; (2) To encourage private organizations and State and local Governments to organize and participate in activities commemorating the centennial of the passage and ratification of the 19th Amendment; (3) To facilitate and coordinate activities throughout the United States relating to the centennial of the passage and ratification of the 19th Amendment; (4) To serve as a clearinghouse for the collection and dissemination of information about events and plans for the centennial of the passage and ratification of the 19th Amendment; and (5) To develop recommendations for Congress and the President for commemorating the centennial of the passage and ratification of the 19th Amendment.

Meeting Agenda

□ Welcome

□ Approval of Minutes

□ Update on WSCC personnel

□ Update on WSCC activities

□ Adjourn

The meeting is open to the public, but preregistration is required. Any individual who wishes to attend the meeting should register via email at rebecca@womensvote100.org; Individuals requiring special accommodations to access the public meeting should contact Rebecca Kleefisch no later than Monday, February 18, 2019, so that appropriate arrangements can be made. Interested persons may choose to make a public comment at the meeting during the designated time for this purpose. Members of the public may also choose to submit written comments by mailing them to Rebecca Kleefisch, Executive Director, Women's Suffrage Centennial Commission, P.O. Box 2020, Washington, DC 20013; or by emailing rebecca@womensvote100.org.

Please contact Rebecca Kleefisch at the email address above to obtain meeting materials. All written comments received will be provided to the Commission.

Public Disclosure of Comments

Before including your address, phone number, email address, or other personal identifying information in your comment, you should be aware that your entire comment—including your personal identifying information—may be made publicly available at any time. While you can ask us in your comment to withhold your personal identifying information from public review, we cannot guarantee that we will be able to do so.

Dated: January 25, 2019.
Jeffrey A. Koses,
Senior Procurement Executive, Office of Acquisition Policy, Office of Governmentwide Policy, General Services Administration.

[FR Doc. 2019-00296 Filed 1-30-19; 8:45 am]

BILLING CODE 3420-37-P